COMMITTEE FOR PURCHASE FROM PEOPLE WHO ARE BLIND OR SEVERELY DISABLED

Procurement List; Additions and Deletions

AGENCY: Committee for Purchase from People Who Are Blind or Severely Disabled.

ACTION: Additions to and deletions from procurement list.

SUMMARY: This action adds to the Procurement List products to be furnished by nonprofit agencies employing persons who are blind or have other severe disabilities, and deletes from the Procurement List products and services previously furnished by such agencies.

EFFECTIVE DATE: December 19, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On September 17, and September 24, 2004, the Committee for Purchase From People Who Are Blind or Severely Disabled published notice (69 FR 56037 and 57261) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Product/NSN: F-15 Fuel Tank Foam Kits.

1560-01-509-2207FX (#1 Fuel Tank Foam Kit).

1560-01-509-2208FX (#2 Fuel Tank Foam Kit).

1560-01-509-2210FX (#3A Fuel Tank Foam Kit).

1560-01-509-2214FX (Right Auxiliary Fuel Tank Foam Kit).

1560-01-509-2216FX (#1 Fuel Tank Foam Kit).

1560-01-509-2219FX (#3A Fuel Tank Foam Kit).

1560-01-509-2222FX (#3B Fuel Tank Foam Kit).

1560-01-509-2224FX (Right Auxiliary Fuel Tank Foam Kit).

1560-01-509-2225FX (#3B Fuel Tank Foam Kit).

1560-01-509-2653FX (#3A Fuel Tank Foam Kit).

1560-01-509-2654FX (#1 Fuel Tank Foam Kit).

1560-01-509-2658FX (Left Auxiliary Fuel Tank Foam Kit).

1560-01-509-3744FX (#1 Fuel Tank Foam Kit).

NPA: Middle Georgia Diversified Industries, Inc., Dublin, Georgia.

Contract Activity: Warner Robins Air Logistics Center/LFK, Robins AFB, Georgia.

Product/NSN: Tea Light Candles.

Strawberry—M.R. 488.

Unscented—M.R. 487.

Vanilla—M.R. 486.

NPA: South Texas Lighthouse for the Blind, Corpus Christi, Texas.

Contract Activity: Defense Commissary Agency (DeCA), Fort Lee, Virginia.

Deletions

On September 24, 2004, the Committee for Purchase From People Who Are Blind or Severely Disabled published notice (69 FR 57261/62) of proposed deletions to the Procurement List. After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Product/NSN: Enamel, Lacquer, 8010-00-935-7085.

NPA: None currently authorized.

Contract Activity: GSA, Hardware & Appliances Center, Kansas City, Missouri.

Product/NSN: Germicidal Cleaner/Degreaser, 7930-01-393-6756.

NPA: Lighthouse for the Blind, St. Louis, Missouri.

Contract Activity: None currently authorized.

Product/NSN: Portfolio, Plastic Envelope.

7510-00-995-4852.

7510-00-995-4856.

7510-00-NIB-0267.

7510-00-NIB-0268.

NPA: Bestwork Industries for the Blind, Inc., Runnemede, New Jersey.

Contract Activity: Office Supplies & Paper Products Acquisition Center, New York, New York.

Product/NSN: Solvent, Correction Fluid. 7510-01-013-9215.

NPA: Lighthouse for the Blind, St. Louis, Missouri.

Contract Activity: Office Supplies & Paper Products Acquisition Center, New York, New York.

Product/NSN: Standard Bus Equipment, 5999-00-NSH-0001.

NPA: Sheltered Workshop for the Disabled, Inc., Binghamton, New York.

Contract Activity: U.S. Coast Guard, Dept. of Transportation, Washington, DC.

Product/NSN: Tape, Postage Meter. 7530-00-912-3925.

NPA: Cincinnati Association for the Blind, Cincinnati, Ohio.

Contract Activity: Office Supplies & Paper Products Acquisition Center, New York, New York.

Services

Service Type/Location: Brick Joint Cleaning, Andersonville National Historic Site, Andersonville, Georgia.

NPA: Macon County MR Services Center, Montezuma, Georgia.

Contract Activity: Department of the Interior, Reston, Virginia.

Service Type/Location: Janitorial/Custodial, Andersonville National Historic Site, Andersonville, Georgia.

NPA: Macon County MR Services Center, Montezuma, Georgia.

Contract Activity: Department of the Interior, Reston, Virginia.

Sheryl D. Kennerly,
Director, Information Management.

[FR Doc. 04-25707 Filed 11-18-04; 8:45 am]

BILLING CODE 6353-01-P